FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 002758-018.

Title: Oakland—APL Preferential Assignment Agreement.

Parties:

City of Oakland

American President Lines, Ltd.

Synopsis: The proposed amendment adjusts the compensation and rental amounts under the agreement. The term of the agreement continues to run through June 30, 2001.

Agreement No.: 011732.

Title: Evergreen/Lloyd Triestino Pacific Slot Charter Agreement.

Parties:

Evergreen Marine Corp. (Taiwan) Ltd. (“EMC”)

Lloyd Triestino Di Navigazione S.p.A.(“L.T.”).

Synopsis: The proposed agreement would authorize EMC to charter space to L.T. on its vessels that operate in the trade between United States West Coast ports and ports in the Far East. The parties may interchange equipment, enter into cooperative working arrangements, and jointly contract for shoreside services. They may also discuss and agree on rates and terms and conditions of service relative to the carriage of cargo in the trade, including cargo carried under the parties' individual service contracts.

Agreement No.: 011733.

Title: Common Ocean Carrier Platform Agreement.

Parties:

A.P. Mφller-Maersk Sealand, CMA CGM, S.A.

Hamburg Süd

Mediterranean Shipping Company, S.A.

P&O Nedlloyd Limited.

Synopsis: The proposed agreement authorizes the parties to establish and operate a common ocean carrier platform on the Internet that will serve as a means by which they and other providers of transportation services interact with their customers through a common set of transactions.

Agreement No.: 201108.

Title: Lease between the Port of New Orleans and Empire Stevedoring.

Parties:

Port of New Orleans

Empire Stevedoring (LA), Inc.

Synopsis: The agreement provides for the lease of certain areas of the First Street Wharf. The agreement runs through November 2, 2001 and can be extended for two additional 1-year periods.

Agreement No.: 201109.

Title: Lease Agreement between Broward County and H.T. Shipping, Inc.

Parties:

Broward County

H.T. Shipping, Inc.

Synopsis: The agreement provides for the lease of certain areas in Port Everglades. The agreement runs through January 31, 2005.

Agreement No.: 201110.

Title: Oakland—Hanjin Preferential Assignment Agreement.

Parties:

City of Oakland

Hanjin Shipping Company, Ltd.

Synopsis: The agreement provides for the use of certain facilities at Oakland's Inner Harbor Area.

Dated: November 9, 2000.
By Order of the Federal Maritime Commission.
Bryant L. VanBrakle,
Secretary.

[FR Doc. 00-29264 Filed 11-14-00; 8:45 am]

BILLING CODE 6730-01-P